DEPARTMENT OF COMMERCE

Minority Business Development Agency

President's Advisory Commission on Asian Americans and Pacific Islanders

AGENCY: Minority Business Development Agency, Department of Commerce.

ACTION: Notice of open meeting.

SUMMARY: The President's Advisory Commission on Asian Americans and Pacific Islanders (AAPI Commission) will convene the fourth open meeting to present the 2020 Commission Report and to discuss issues related to the upcoming survey of the AAPI small business community. This meeting is open to the public and interested persons may join the video and audio conference by using the call-in number or weblink by registering online (see ADDRESSES).

DATES: The meeting will be held via video and audio conference on Wednesday, January 13, 2021 from 4:00 p.m. to 6:00 p.m., Eastern Time (ET).

ADDRESSES: The public meeting will be broadcast virtually from the meeting at the U.S. Department of Commerce, 1401 Constitution Ave. NW, Washington, DC 20230. The meeting is open to the public via video and audio conference technology. Registration for access to the meeting will be prominently posted on the PAC-AAPI homepage at: https://www.commerce.gov/whiaapi/pac-aapi/public-meetings-and-events. Please note: The PAC-AAPI Commission website will maintain the most current information on the meeting agenda, registration, and location.

FOR FURTHER INFORMATION CONTACT: For information regarding the conference, please contact Ms. Tina Wei Smith, Executive Director, Office of the White House Initiative on Asian Americans and Pacific Islanders; telephone (202) 482-1375; email: whiaapi@doc.gov.

SUPPLEMENTARY INFORMATION: Background. The President, through Executive Order 13872 (May 13, 2019), re-established the President's Advisory Commission on Asian Americans and Pacific Islanders to advise the President, through the Secretary of Commerce and the Secretary of Transportation. The AAPI Advisory Commission provides advice to the President on executive branch efforts to broaden access of AAPI communities, families and businesses to economic resources and opportunities that empower AAPIs to improve the quality of their lives, raise the standard of living of their communities and families, and more fully participate in the U.S. economy.

Public Participation. In accordance with Section 10(a)(2) of the Federal Advisory Committee Act, as amended (5 U.S.C. App.), this notice is the public announcement of the Commission's intent to hold a video and audio conference on January 13, 2021. This meeting is open to the public and interested persons may attend the conference virtually by using the call-in number and pass code set forth above (see ADDRESSES). Prospective agenda items for the meeting the presentation of the Commission's 2020 report to the President, update on the survey of AAPI businesses, administrative tasks and such other Commission business as may arise during the meeting.

The Commission welcomes interested persons to submit written comments to the Office of the White House Initiative on Asian Americans and Pacific Islanders. Please submit statements or questions via email address, whiaapi@doc.gov (please use the subject line “January 2021 PAC-AAPI Open Meeting Public Comment”), or by letter to Tina Wei Smith, c/o White House Initiative of Asian Americans and Pacific Islanders (MBDA), Department of Commerce, 1401 Constitution Avenue NW, Washington, DC 20230. If you wish the Commission to consider your statement or question during the meeting, we must receive your written statement or question no later than 5 p.m. (EDT) three business days prior to the meeting. We will provide all statements or questions received after the deadline to the members; however, they may not consider them during the meeting.

Copies of the Commission open meeting minutes will be made available to the public.

Josephine Arnold,
Chief Counsel, Minority Business Development Agency.

[FR Doc. 2021-00479 Filed 1-12-21; 8:45 am]

BILLING CODE P